DEPARTMENT OF JUSTICE

Notice Lodging of Proposed Consent Decree Under the Clean Water Act

On May 29, 2015, the Department of Justice lodged a proposed Consent Decree with the United States District Court for the District of New Jersey in the lawsuit entitled United States v. Garden Homes et al., Civil Action No. 2:15-cv-03618-CCC-JBC.

The Consent Decree resolves the United States' claims set forth in the complaint against Garden Homes and twelve of its affiliates (“Defendants”) for violations of the Clean Water Act, in connection with Defendants' operations at ten construction sites in New Jersey. Under the Consent Decree, Defendants have agreed to pay a civil penalty of $225,000. Defendants will also perform a land preservation supplemental environmental project valued at approximately $780,000, and implement a company-wide storm water management program designed to provide increased oversight of operations and ensure greater compliance with the Clean Water Act.

The publication of this notice opens a period for public comment on the Consent Decree. Comments should be addressed to the Assistant Attorney General, Environment and Natural Resources Division and should refer to United States v. Garden Homes et al., D.J. Ref. No. 90-5-1-1-10904. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department Web site: http://www.justice.gov/enrd/consent-decrees. We will provide a paper copy of the Consent Decree upon written request and payment of reproduction costs. Please mail your request and payment to: Consent Decree Library, U.S. DOJ—ENRD, P.O. Box 7611, Washington, DC 20044-7611.

Please enclose a check or money order for $24.25 (25 cents per page reproduction cost) payable to the United States Treasury. For a paper copy without the exhibits and signature pages, the cost is $9.75.

Maureen Katz,
Assistant Chief, Environmental Enforcement Section, Environment and Natural Resources Division.

[FR Doc. 2015-13806 Filed 6-5-15; 8:45 am]

BILLING CODE 4410-15-P